DEPARTMENT OF TRANSPORTATION

Office of the Secretary

[Docket No. OST-2006-23999]

14 CFR Part 382

RIN 2105-AD41

Nondiscrimination on the Basis of Disability in Air Travel—Accommodations for Individuals Who Are Deaf, Hard of Hearing, or Deaf-Blind

AGENCY: Office of the Secretary (OST), U.S. Department of Transportation (DOT).

ACTION: Extension of comment period on proposed rule.

SUMMARY: The Department is extending through June 24, 2006, the period for interested persons to submit comments to its proposed rule on accommodations for individuals who are deaf, hard of hearing, or deaf-blind.

DATES: Comments must be received by June 24, 2006. Comments received after this date will be considered to the extent practicable.

ADDRESSES: You may submit comments identified by the docket number [OST-2005-23999] by any of the following methods: (1) Federal eRulemaking Portal: http://www.regulations.gov (follow the instructions for submitting comments); (2) Web site: http://dms.dot.gov (follow the instructions for submitting comments on the DOT electronic docket site); (3) Fax: 1-202-493-2251; (4) Mail: Docket Management System; U.S. Department of Transportation, 400 Seventh Street, SW., Nassif Building, Room PL-401, Washington, DC 20590-001; or (5) Hand Delivery: To the Docket Management System; Room PL-401 on the plaza level of the Nassif Building, 400 Seventh Street, SW., Washington, DC between 9 a.m. and 5 p.m., Monday through Friday, except Federal Holidays.

You must include the agency name and docket number [OST-2005-23999] or the Regulatory Identification Number (RIN) for this notice at the beginning of your comment. Note that all comments received will be posted without change to http://dms.dot.gov including any personal information provided. Please see the Privacy Act section of this document. You may view the public docket through the Internet at http://dms.dot.gov or in person at the Docket Management System office at the above address.

FOR FURTHER INFORMATION CONTACT: Blane A. Workie, Office of Assistant General Counsel for Aviation Enforcement and Proceedings, 400 7th Street, SW., Room 4116, Washington, DC 29590. Phone: 202-366-9342. TTY: 202-366-0511. Fax: 202-366-7152. E-mail: blane.workie@dot.go.

SUPPLEMENTARY INFORMATION: On February 23, 2006, the Department of Transportation (DOT or Department) issued a notice of proposed rulemaking (NPRM) that proposed to amend 14 CFR Part 382 (Part 382), the rule that implements the Air Carrier Access Act (ACAA), to provide for additional accommodations for air travelers who are deaf, hard of hearing or deaf-blind. See 71 FR 9285. The NPRM would apply to U.S. air carriers, to foreign air carriers for their flights into and out of the United States, to airport facilities located in the U.S. that are owned, controlled or leased by carriers, and to aircraft that serve a U.S. airport.

On March 16, 2006, the European Civil Aviation Conference (ECAC) requested an extension of the comment period, in order to permit it to gather expert opinion from many sources on the “complex” issues addressed in the NPRM. It requested an extension of at least a few weeks from the original comment closing date of April 24, 2006. This request was supported by the Air Carrier Association of America (ACAA), the Air Transport Association (ATA), the National Air Carrier Association (NACA), and the Regional Airline Association (RAA). The carrier associations further requested that the comment period for the NPRM be extended to June 24, 2006, to consider “the multiple and complicated technical and operational issues raised by the NPRM (for domestic and international operations) and the accompanying initial regulatory assessment.”

The Department concurs that an extension of the comment period is necessary to allow intergovernmental organizations such as ECAC as well as members of industry sufficient time to analyze the impact of the proposed rule and is granting a 60-day extension, which we expect will result in more thorough comments to the docket than might otherwise be possible. Accordingly, the Department finds that good cause exists to extend the comment period on the proposed rule from April 24, 2006, to June 24, 2006.

Issued in Washington, DC this 11th day of April, 2006, under authority assigned to me by 14 CFR 385.17 (c).
Neil Eisner,
Assistant General Counsel for Regulation and Enforcement, U.S. Department of Transportation.

[FR Doc. E6-5717 Filed 4-17-06; 8:45 am]

BILLING CODE 4910-9X-P